DEPARTMENT OF AGRICULTURE

Office of the Secretary

2 CFR Subtitle B, Ch. IV

5 CFR Ch. LXXIII

7 CFR Subtitle A; Subtitle B, Chs. I-XI, XIV-XVIII, XX, XXV-XXXVIII, XLII

9 CFR Chs. I-III

36 CFR Ch. II

48 CFR Ch. 4

Identifying and Reducing Regulatory Burdens

AGENCY: Office of the Secretary, USDA.

ACTION: Request for Information (RFI).

SUMMARY: In accordance with Executive Order 13563, “Improving Regulation and Regulatory Review,” and Executive Order 13610, “Identifying and Reducing Regulatory Burdens,” the U.S. Department of Agriculture (USDA) is continuing to review its regulatory programs and evaluate their burdens and their effectiveness. As part of this effort, USDA welcomes public comment on which regulations should be modified, expanded, streamlined, or repealed to make the USDA's regulatory program more effective or less burdensome in achieving the regulatory objectives. The 2015 Fall Regulatory Agenda provides a summary of the USDA regulations under development or review during the coming year. Similarly, USDA's 2015 Statement of Regulatory Priorities provides a list of important regulatory actions that USDA is considering for issuance in proposed or final form during the 2016 fiscal year.

DATES: Comments and information are requested on or before March 28, 2016.

ADDRESSES: Interested persons are invited to submit comments regarding this notice. All submissions must refer to “Retrospective Review” to ensure proper delivery.

• Electronic Submission of Comments. Interested persons may submit comments electronically through the Federal eRulemaking Portal: http://www.regulations.gov. USDA strongly encourages commenters to submit comments electronically. Electronic submission of comments allows the commenter maximum time to prepare and submit a comment, and ensures timely receipt by USDA. Commenters should follow the instructions provided on that site to submit comments electronically.

• Submission of Comments by Mail, Hand delivery, or Courier. Paper, disk, or CD-ROM submissions should be submitted to Michael Poe, Office of Budget and Program Analysis, USDA, Jamie L. Whitten Building, Room 101-A, 1400 Independence Ave. SW., Washington, DC 20250.

FOR FURTHER INFORMATION CONTACT: Michael Poe, Telephone Number: (202) 720-3257.

SUPPLEMENTARY INFORMATION: USDA remains committed to minimizing the burdens on individuals businesses, and communities for participation in and compliance with USDA programs that promote economic growth, create jobs, and protect the health and safety of the American people. USDA's planned regulatory actions and retrospective review efforts were made available in the 2015 Fall Unified Regulatory Agenda (http://www.reginfo.gov/public/do/eAgendaMain?operation=OPERATION_GET_AGENCY_RULE_LIST&currentPub=true&agencyCode=&showStage=active&agencyCd=0500) and the USDA Statement of Regulatory Priorities (http://www.reginfo.gov/public/jsp/eAgenda/StaticContent/201510/Statement_0500.html).

USDA programs are diverse and far reaching, as are the regulations and legislation that implement their delivery. The regulations range from nutrition standards for the school lunch program, natural resources and environmental measures governing national forest usage and soil conservation, emergency producer assistance as a result of natural disasters, to protection of American agriculture from the ravages of plant or animal pestilence. USDA regulations extend from farm to supermarket to ensure the safety, quality, and availability of the Nation's food supply. Regulations also specify how USDA conducts its business, including access to and eligibility for USDA programs. Finally, regulations specify the responsibilities of businesses, individuals, and State and local governments that are necessary to comply with their provisions.

I. Executive Orders 13563 and 13610

The overall intention of Executive Orders 13563 and 13610 is to create a continuing process of scrutiny of regulatory actions.

Executive Order 13563, “Improving Regulation and Regulatory Review,” was issued to ensure that Federal regulations use the best available tools to promote innovation that will reduce costs and burden while allowing public participation and an open exchange of ideas. These principles enhance and strengthen Federal regulations to allow them to achieve their regulatory objectives, most important among them protecting public health, welfare, safety, and the environment. In consideration of these principles, and as directed by the Executive Order, Federal agencies and departments need to periodically review existing regulations that may be outmoded, ineffective, insufficient, or excessively burdensome and to modify, streamline, expand, or repeal them in accordance with what has been learned.

In addition, Executive Order 13610, “Identifying and Reducing Regulatory Burdens,” directed Federal agencies to conduct retrospective analyses of existing rules to examine whether they remain justified and whether they should be modified or streamlined in light of changed circumstances, including the availability of new technologies. Executive Order 13610 directs Federal agencies to give priority, consistent with law, to those initiatives that will produce significant quantifiable monetary savings or significant quantifiable reductions in paperwork burdens while protecting public health, welfare, safety, and the environment. For the regulatory requirements imposed on small businesses, it directs Federal agencies to give special consideration to initiatives that would simplify or harmonize the regulatory requirements.

II. Request for Information

USDA is seeking public comment on our effort: To identify and reduce regulatory burdens; to remove unintended regulatory obstacles to participation in and compliance with USDA programs; and to improve current regulations to help USDA agencies advance the USDA mission. USDA is particularly interested in public comments that speak to areas in which we can reduce costs and reporting burdens on the public, through technological advances or other modernization efforts, and comments on regulatory flexibility.

III. Regulatory Flexibility

USDA is also seeking public input on measures that can be taken to reduce burdens and increase flexibility and freedom of choice for the public. Regulatory flexibility includes a variety of regulatory techniques that can help avoid unnecessary costs on regulated entities and avoid negative impacts. Regulatory flexibility techniques could include:

• Pilot projects, which can be used to test regulatory approaches;

• Safe harbors, which are streamlined modes of regulatory compliance and can serve to reduce compliance costs;

• Sunset provisions, which terminate a rule after a certain date;

• Trigger provisions, which specify one or more threshold indicators that the rule is designed to address;

• Phase-ins, which allow the rule to be phased-in for different groups at different times;

• Streamlined requirements, which provide exemptions or other streamlined requirements if a particular entity (for example, a small business) may otherwise experience disproportionate burden from a rule;

• State flexibilities, which provide greater flexibility to States or other regulatory partners, for example, giving them freedom to implement alternative regulatory approaches; and

• Exceptions, which allow exceptions to part of the rule, or the entire rule in cases where there is a potential or suspected unintended consequence.

IV. Existing USDA Regulations

In addition to retrospective review actions and other regulatory reforms identified in USDA's 2015 Fall Regulatory Agenda, we welcome comments from the public on any of USDA's existing regulations and ways to improve them to help USDA agencies advance the mission of the Department consistent with the Executive Order. USDA notes that this RFI is issued solely for information and program-planning purposes. While responses to this RFI do not bind USDA to any further actions, all submissions will be reviewed by the appropriate program office, and made publicly available on http://www.regulations.gov.

Dated: January 7, 2016.
Thomas J. Vilsack,
Secretary.

[FR Doc. 2016-00693 Filed 1-25-16; 8:45 am]

BILLING CODE 3410-90-P